FEDERAL COMMUNICATIONS COMMISSION

[CC Docket No. 80-286; DA 01-1496]

Streamlined ARMIS 43-04 (Jurisdictional Separations) Report

AGENCY: Federal Communications Commission.

ACTION: Notice; comments requested.

SUMMARY: In this document the Commission is seeking comment on streamlining ARMIS 43-04 Report. The Commission directed the Common Carrier Bureau to seek comment on the content of a streamlined Separations Report (ARMIS 43-04). The proposed ARMIS Report 43-04 would reduce the total number of pages in the report from 63 to seven pages.

DATES: Written comments by the public are due on or before July 20, 2001, reply comments are due on or before August 6, 2001.

ADDRESSES: Federal Communications Commission, 445-12th Street, SW, TW-A325, Washington, DC 20554.

FOR FURTHER INFORMATION CONTACT: Andrew Mulitz, Accounting Safeguards Division, Common Carrier Bureau, at (202) 418-0827.

SUPPLEMENTARY INFORMATION: On May 22, 2001, the Commission adopted the recommendation of the Federal-State Joint Board to impose an interim freeze of certain jurisdictional cost categories and allocation factors. Specifically, the Commission adopted a freeze of all separations category relationships and allocation factors for price cap companies, and a freeze of all allocation factors for rate-of-return carriers. The Commission further concluded, however, that rate-of-return carriers shall also have a one-time option to freeze their category relationships if they determine that doing so is in their best interests based upon their individual investment patterns or plans. The Commission concluded that it could streamline its current separations reporting requirements, while receiving sufficient information to evaluate the freeze and consider further separations reform. The Commission directed the Common Carrier Bureau to seek comment on the content of a streamlined Separations Report (ARMIS 43-04). The proposed ARMIS Report 43-04 would reduce the total number of pages in the report from 63 to seven pages. We hereby seek comment on the attached proposed streamlined ARMIS Report 43-04.

Comments are due on the attached proposal insert date 20 days after date of publication in the Federal Register. Reply comments are due insert date 35 days after date of publication in the Federal Register. Comments may be filed using the Commission's Electronic Comment Filing System (ECFS) or by filing paper copies.

Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address.” A sample form and directions will be sent in reply.

Parties who choose to file by paper must file an original and four copies of each filing. If more than one docket or rulemaking number appear in the caption of this proceeding, commenters must submit two additional copies for each additional docket or rulemaking number. All filings must be sent to the Commission's Secretary, Magalie Roman Salas, Office of the Secretary, Federal Communications Commission, 445 12th Street, SW., Washington, DC 20554.

Parties who choose to file by paper should also submit their comments on diskette. These diskettes should be submitted to: Ernestine Creech, Accounting Safeguards Division, Room 6 C-317, 445 12th Street, SW., Washington, DC 20554. Such a submission should be on a 3.5-inch diskette formatted in an IBM compatible format using Word or compatible software. The diskette should be accompanied by a cover letter and should be submitted in “read only” mode. The diskette should be clearly labeled with the commenter's name, proceeding (including the docket number, in this case CC Docket No. 80-286, type of pleading (comment or reply comment), date of submission, and the name of the electronic file on the diskette. The label should also include the following phrase “Disk Copy—Not an Original.” Each diskette should contain only one party's pleadings, preferably in a single electronic file. In addition, commenters must send diskette copies to the Commission's copy contractor, International Transcription Service, Inc., 1231 20th Street, NW., Washington, DC 20037.

Paperwork Reduction Act

As part of our continuing effort to reduce paperwork burdens, we invite the general public to take this opportunity to comment on information collections contained in this Document, as required by the Paperwork Reduction Act of 1995, Public Law No. 104-13. Public and agency comments are due at the same time as other comments on this Document. Comments should address: (a) whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

Federal Communications Commission.
Kenneth P. Moran,
Chief, Accounting Safeguards Division.

Row and category | Subject to separations | State | Interstate | Common Lin | Total traffic sensitive | Special access | Billing & collection | IX
(a) | (b) | (c) | (d) | (i) | (n) | (o) | (q) | (r)
(i) TABLE I—SEPARATIONS AND ACCESS TABLE
Equal Access:
30 Total Equal Access Investment |  |  |  | N/A |  | N/A | N/A | N/A
40 Equal Access Accumulated Depreciation |  |  |  | N/A |  | N/A | N/A | N/A
44 Equal Access Current Def. Oper. Income Taxes |  |  |  | N/A |  | N/A | N/A | N/A
46 Equal Access Non-current Def. Oper. Inc. Taxes |  |  |  | N/A |  | N/A | N/A | N/A
83 # Equal Access Minute of Use |  |  |  | N/A | N/A | N/A | N/A | N/A
84 Total Equal Access Expenses |  |  |  | N/A |  | N/A | N/A | N/A
Plant-In-Service Investment:
1000 General Support Facilities Investment
1001 General Support Facilities—Big 3 Expenses—Allocation |  |  |  | N/A | N/A | N/A | N/A | N/A
1002 General Support Investment Class B Cos. |  |  |  | N/A | N/A | N/A | N/A | N/A
1003 General Support Facilities—Part 69—Allocation | N/A | N/A
1112 Total Category 1 Switchboards |  |  |  | N/A |  | N/A | N/A |
1129 Total Category 1 Service Observing Boards |  |  |  | N/A |  | N/A | N/A |
1154 Total Category 1 Auxiliary Service Boards |  |  |  | N/A |  | N/A | N/A |
1168 Total Category 1 Traffic Service Position |  |  |  | N/A |  | N/A | N/A |
1170 Total Category 1 COE |  |  |  | N/A |  | N/A | N/A |
1201 Category 2 Tandem Switching Equipment |  |  |  | N/A | N/A | N/A | N/A | N/A
1202 Category 2 Tandem Switching Equipment—Jointly Used |  |  |  | N/A | N/A | N/A | N/A | N/A
1203 # Tandem Minutes—Allocation |  |  |  | N/A | N/A | N/A | N/A | N/A
1204 Total Category 2 COE |  |  |  | N/A |  | N/A | N/A |
1212 Category 3 COE Local Switching |  |  |  |  |  |  | N/A |
1213 % Interstate Category 3 COE—Allocation |  |  |  | N/A | N/A | N/A | N/A | N/A
1216 # Dial Equipment Minutes |  |  |  | N/A | N/A | N/A | N/A | N/A
1220 Cat. 4.11 COE WDBD. Exch. Line Circuit Equip.—Private Lin |  |  |  | N/A | N/A | N/A | N/A | N/A
1222 Cat. 4.11 COE WDBD. Exch. Line Circuit Equip.—Jointly Used |  |  |  | N/A | N/A | N/A | N/A | N/A
1223 # Minutes-of-use for Category 4.11 Allocation |  |  |  | N/A | N/A | N/A | N/A | N/A
1224 Total Category 4.11 COE |  |  |  | N/A |  |  | N/A |
1230 Category 4.12 COE Exchange Trunk Circuit (NON-WDBD.) |  |  |  | N/A | N/A | N/A | N/A | N/A
1231 Category 4.12 COE Exch. Trunk Circuit—Message |  |  |  | N/A | N/A | N/A | N/A | N/A
1232 Category 4.12 COE Exch. Trunk Circuit—Jointly Used |  |  |  | N/A | N/A | N/A | N/A | N/A
1233 # MOU for Category 4.12 Non-wideband—Allocation |  |  |  | N/A | N/A | N/A | N/A | N/A
1234 Total Category 4.12 Basic Non-wideband COE |  |  |  | N/A | N/A | N/A | N/A | N/A
1240 Category 4.12 Special Non-wideband COE |  |  |  | N/A | N/A | N/A | N/A | N/A
1250 Cat. 4.12 COE Exch. Trunk Circuit Equip. (WDBD)—Pvt. Line |  |  |  | N/A | N/A | N/A | N/A | N/A
1252 Cat. 4.12 COE Exch. Trunk Circuit Equip. (WDBD)—JT Use |  |  |  | N/A | N/A | N/A | N/A | N/A
1254 Total Category 4.12 Wideband COE |  |  |  | N/A | N/A | N/A | N/A | N/A
1260 Total Category 4.12 COE Exch. Trunk Circuit Equipment |  |  |  | N/A |  |  | N/A |
(ii) TABLE I—SEPARATIONS AND ACCESS TABLE
1274 Category 4.13 COE Exchange Circuit Equip—Assg. PL |  |  |  | N/A | N/A | N/A | N/A | N/A
1275 Category 4.13 COE Exchange Circuit Equip—Jointly Used |  |  |  | N/A | N/A | N/A | N/A | N/A
1276 % LOOP ALLOC. FACTOR |  |  |  | N/A | N/A | N/A | N/A | N/A
1277 Total Category 4.13 COE Exchange Circuit Equip |  |  |  | N/A | N/A | N/A | N/A | N/A
1280 Special Category 4.13 COE Exchange Circuit Equip |  |  |  | N/A | N/A | N/A | N/A | N/A
1290 Total Category 4.13 COE |  |  |  |  | N/A |  | N/A | N/A
1300 Total Category 4.1 COE Exchange Line Circuit Equipment |  |  |  |  |  |  | N/A |
1310 Category 4.21 COE Furnished to Another Co |  | N/A |  | N/A | N/A | N/A | N/A |
1320 Category 4.22 COE IX Circuit Equipment (WDBD)—Pvt. Line |  |  |  | N/A | N/A | N/A | N/A | N/A
1322 Category 4.22 COE IX Circuit Equipment (WDBD)—Joint. Use |  |  |  | N/A | N/A | N/A | N/A | N/A
1323 # Conversation Minutes Kilometers Factor |  |  |  | N/A | N/A | N/A | N/A | N/A
1324 Total Category 4.22 COE IX. Circuit Equipment |  |  |  | N/A |  |  | N/A |
1336 Category 4.23 COE IX Circuit Equipment (WDBD.) |  |  |  | N/A | N/A | N/A | N/A | N/A
1338 Category 4.23 COE IX Circuit Equipment—Jointly Used |  |  |  | N/A | N/A | N/A | N/A | N/A
1339 # Conversation-minutes Factor |  |  |  | N/A | N/A | N/A | N/A | N/A
1342 Total Category 4.23 Basic IX. Circuit Equip. COE |  |  |  | N/A | N/A | N/A | N/A | N/A
1350 Category 4.23 Special IX. Circuit Equip. COE |  |  |  | N/A | N/A | N/A | N/A | N/A
1370 Total Category 4.23 COE IX Circuit Equipment |  |  |  | N/A |  |  | N/A |
1380 Total Category 4.2 COE IX. Circuit Equipment |  |  |  | N/A |  |  | N/A |
1392 Category 4.3 COE Host/Remote Circuit Equip.—Jointly Used |  |  |  | N/A | N/A | N/A | N/A | N/A
1393 # Minutes of Use Kilometers Factor |  |  |  | N/A | N/A | N/A | N/A | N/A
1394 Total Cat. 4.3 Host/Remote Circuit Equip. COE |  |  |  |  |  |  | N/A |
1400 Total Category 4 COE Circuit Equipment |  |  |  |  |  |  | N/A |
1410 Total COE Investment |  |  |  |  |  |  | N/A |
1420 Category 1 IOT—Information Origination/Termination |  |  |  | N/A | N/A | N/A | N/A | N/A
1425 Other IOT—Part 69 | N/A | N/A |  |  | N/A |  | N/A | N/A
1426 # Number of Equivalent Lines—Part 69 | N/A | N/A |  |  | N/A |  | N/A | N/A
1428 Total Category 1 IOT—Information Origin./Termin.—Part 69 |  |  |  |  | N/A |  | N/A | N/A
1430 Category 2 New Customer Premises Equipment |  |  | N/A | N/A | N/A | N/A | N/A | N/A
1440 Total Information Origination/Termination |  |  |  |  | N/A |  | N/A | N/A
1454 Category 1 C&WF—Exchange Line |  |  |  | N/A | N/A | N/A | N/A | N/A
1455 Category 1 C&WF—Exchange Line—Jointly Used |  |  |  | N/A | N/A | N/A | N/A | N/A
1460 Total Category 1 Exch. Line C&WF |  |  |  |  | N/A |  | N/A | N/A
1470 Category 2 C&WF Non-wideband Exch. Trunk—Private Line |  |  |  | N/A | N/A | N/A | N/A | N/A
1471 Category 2 C&WF Non-wideband Exch. Trunk—Direct Msg. |  |  |  | N/A | N/A | N/A | N/A | N/A
1472 Category 2 C&WF Non-wideband Exch. Trunk—Jointly Used |  |  |  | N/A | N/A | N/A | N/A | N/A
1474 Total Category 2 Non-wideband Exch. Trunk C&WF |  |  |  | N/A | N/A | N/A | N/A | N/A
1480 Category 2 C&WF Wideband Exch. Trunk—Direct |  |  |  | N/A | N/A | N/A | N/A | N/A
1481 Category 2 C&WF Wideband Exch. Trunk—Message |  |  |  | N/A | N/A | N/A | N/A | N/A
1484 Total Category 2 Wideband Exch. Trunk C&WF |  |  |  | N/A | N/A | N/A | N/A | N/A
1485 # Category 2 C&WF Exchange Trunk |  |  |  | N/A |  |  | N/A |
(iii) TABLE I—SEPARATIONS AND ACCESS TABLE
1496 Category 3 C&WF IX Private Line |  |  |  | N/A | N/A | N/A | N/A | N/A
1497 Category 3 C&WF IX Private Line—Message |  |  |  | N/A | N/A | N/A | N/A | N/A
1498 Category 3 C&WF IX Private Line—Joint Message |  |  |  | N/A | N/A | N/A | N/A | N/A
1510 Total Category 3 IX C&WF |  |  |  | N/A |  |  | N/A |
1522 Category 4 C&WF Host/Remote—Joint Message |  |  |  | N/A | N/A | N/A | N/A | N/A
1523 # Category 4 C&WF Host/Remote Minute of Use Kilometer |  |  |  | N/A | N/A | N/A | N/A | N/A
1524 Total Category 4 Host/Remote C&WF |  |  |  |  |  |  | N/A |
1530 Total C&WF |  |  |  |  |  | N/A |  |
1540 Total Telephone Plant Investment—All Categories |  |  |  |  |  |  |  |
Other Telecommunication Property:
2001 Tangible Assets General Support—Capital Leases |  |  |  |  |  |  |  |
2003 Tangible Assets COE Switching Capital Leases |  |  |  |  |  |  | N/A |
2013 Total Capital Leases for allocation Part—69 | N/A | N/A |  |  |  |  |  |
2020 Total Tangible Assets—Capital Leases |  |  |  |  |  |  |  |
2070 Tangible Assets General Support—Leasehold Improvements |  |  |  | N/A | N/A | N/A | N/A | N/A
2130 Tangible Assets Leasehold Improvements—Part 69 | N/A | N/A |  |  |  |  |  |
2131 Combined Invest. Used Alloc. Total Leasehold Improvements | N/A | N/A |  |  |  |  |  |
2140 Total Tangible Assets—Lease Improvements |  |  |  |  |  |  |  |
2150 Total Other Tangible Assets |  |  |  |  |  |  |  |
2160 Intangible Assets |  |  |  |  |  |  |  |
2161 TPIS less Intangible Assets Used to Allocate Part 36 |  |  |  | N/A | N/A | N/A | N/A | N/A
2190 Property Held for Future Telecommunications Use |  |  |  |  |  |  |  |
2191 Telecommunications Plant under Construction |  |  |  |  |  |  |  |
2193 Telecommunications Plant Adjustment |  |  |  |  |  |  |  |
2194 TPIS used to Allocate Plant under Construction & Adjustment |  |  |  |  |  |  |  |
2203 Total Other Plant Investment |  |  |  |  |  |  |  |
2210 Rural Telephone Bank Stock |  |  |  |  |  |  |  |
2224 Total Inventories |  |  |  |  |  |  |  |
2230 Cash Working Capital | N/A | N/A |  |  |  |  |  |
2240 Total Other Investment |  |  |  |  |  |  |  |
2250 FCC Investment Adjustment | N/A | N/A |  |  |  |  |  |
2260 Total Telecommunications Property |  |  |  |  |  |  |  |
Reserves and Deferrals:
3000 Other Jurisdictional Assets |  |  | N/A | N/A | N/A | N/A | N/A | N/A
3010 Accumulated Depreciation—General Support |  |  |  |  |  |  |  |
3020 Accumulated Depreciation—Switching Equipment |  |  |  |  |  |  | N/A |
3030 Accumulated Depreciation—Operator Equipment |  |  |  |  |  |  | N/A |
3040 Accumulated Depreciation—Transmission Equip |  |  |  |  |  |  | N/A |
3050 Accumulated Depreciation—IOT |  |  |  |  | N/A |  | N/A | N/A
3060 Accumulated Depreciation—C&WF |  |  |  |  |  |  | N/A |
3070 Accumulated Depreciation—Property Held for Future Use |  |  |  |  |  |  |  |
3080 Total Accumulated Depreciation |  |  |  |  |  |  |  |
(iv) TABLE I—SEPARATIONS AND ACCESS TABLE
3090 Accumulated Amortization—Capital Leases GSF |  |  |  |  |  |  |  |
3100 Accumulated Amortization—COE Switching |  |  |  |  |  |  | N/A |
3150 Total Accumulated Amortization—Capital Leases |  |  |  |  |  |  |  |
3220 Total Accumulated Amortization—Leasehold Improvements |  |  |  |  |  |  |  |
3230 Total Accumulated Amortization—Tangible Assets |  |  |  |  |  |  |  |
3240 Accumulated Amortization—Intangible Assets |  |  |  |  |  |  |  |
3250 Other Accumulated Amortization |  |  |  |  |  |  |  |
3251Assoc. Invest. Used to Allocate Other Accum. Amortization |  |  |  |  |  |  |  |
3260 Total Accumulated Amortization—Intangible Assets |  |  |  |  |  |  |  |
3270 Total Accumulated Amortization |  |  |  |  |  |  |  |
3280 Current Deferred Oper. Income Taxes—GSF |  |  |  |  |  |  |  |
3290 Current Deferred Oper. Income Taxes—Switch. |  |  |  |  |  |  | N/A |
3300 Current Deferred Oper. Inc. Taxes—Operating |  |  |  |  |  |  | N/A |
3310 Current Deferred Oper. Income Taxes—Transmission. |  |  |  |  |  |  | N/A |
3320 Current Deferred Oper. Income Taxes—IOT |  |  |  |  | N/A |  | N/A | N/A
3330 Current Def. Oper. Income Taxes—C&WF |  |  |  |  |  |  | N/A |
3332 Other Current Deferred Oper. Income Taxes |  |  |  |  |  |  |  |
3340 Total Net Current Def. Oper. Income Taxes |  |  |  |  |  |  |  |
3350 Non-Current Deferred Oper. Income Taxes—GSF |  |  |  |  |  |  |  |
3360 Non-Current Deferred Oper. Income Taxes—Switching Equip. |  |  |  |  |  |  | N/A |
3370 Non-Current Deferred Oper. Income Taxes—Operator System |  |  |  |  |  |  | N/A |
3380 Non-Current Deferred Oper. Income Taxes—Circuit Equip. |  |  |  |  |  |  | N/A |
3390 Non-Current Deferred Oper. Income Taxes—IOT |  |  |  |  | N/A |  | N/A | N/A
3400 Non-Current Deferred Oper. Income Taxes—C&WF |  |  |  |  |  |  | N/A |
3402 Other Non-Current Deferred Oper. Income Taxes— |  |  |  |  |  |  |  |
3410 Total Net Non-current Def. Oper. Income Taxes |  |  |  |  |  |  |  |
3420 Other Jurisdictional Liabilities |  |  | N/A | N/A | N/A | N/A | N/A | N/A
3421 FCC Reserve Adjustment | N/A | N/A |  |  |  |  |  |
3422 Customer Deposits |  |  |  |  |  |  |  |
3423 Other Deferred Credits |  |  |  |  |  |  |  |
3430 Total Reserves and Deferrals |  |  |  |  |  |  |  |
Operating Revenues and Certain Income Accounts:
4000 Basic Local Service—Private Line Revenues |  |  |  | N/A | N/A | N/A | N/A | N/A
4001 Basic Local Service—Foreign Exchange |  |  |  | N/A | N/A | N/A | N/A | N/A
4002 Basic Local Service—Wideband |  |  |  | N/A | N/A | N/A | N/A | N/A
4004 All Other Basic Local Service Revenues |  |  |  | N/A | N/A | N/A | N/A | N/A
4005 Total Basic Local Service Revenues |  |  |  | N/A | N/A | N/A | N/A | N/A
4010 Network Access Service—End User Revenues |  | N/A |  | N/A | N/A | N/A | N/A | N/A
4011 Network Access Ser.—Switch Access Revenues |  | N/A |  | N/A | N/A | N/A | N/A | N/A
4012 Network Access Ser.—Special Access Revenues |  | N/A |  | N/A | N/A | N/A | N/A | N/A
4013 Network Access Ser.—State Access Revenues |  |  | N/A | N/A | N/A | N/A | N/A | N/A
4014 Total Network Access Service Revenues |  |  |  |  |  |  | N/A |
(v) TABLE I—SEPARATIONS AND ACCESS TABLE
4020 LD Message Service—Wideband & TWX Rev. |  |  |  | N/A | N/A | N/A | N/A | N/A
4022 LD Message Service—Private Lines |  |  |  | N/A | N/A | N/A | N/A | N/A
4023 K$ REV.—ALL OTHER LONG DISTANCE |  |  |  | N/A | N/A | N/A | N/A | N/A
4024 Total Long Distance Message Service Revenues |  |  |  |  |  |  | N/A |
4030 Miscellaneous—Directory Revenues |  |  |  | N/A | N/A | N/A | N/A | N/A
4031 Miscellaneous—Billing and Collections Revenues |  |  |  | N/A | N/A | N/A | N/A | N/A
4032 Miscellaneous—All Other Revenues |  |  |  | N/A | N/A | N/A | N/A | N/A
4033 Total Miscellaneous Revenues |  |  |  |  |  |  |  |
4040 Un-collectible Revenues |  |  |  |  |  |  |  |
4050 Total Revenues |  |  |  |  |  |  |  |
4060 Other Income—Foreign Exchange Service |  |  |  | N/A | N/A | N/A | N/A | N/A
4061 All Other Operating Inc. and Exp.—Directly |  |  |  | N/A | N/A | N/A | N/A | N/A
4062 All Other Operating Inc. and Exp.—Joint |  |  |  | N/A | N/A | N/A | N/A | N/A
4064 Total Other Income—Part 69 | N/A | N/A |  |  |  |  |  |
4065 Combined Invest. Used to Allocate Other Oper. Inc. & Exp. | N/A | N/A |  |  |  |  |  |
4066 Total Other Operating Income and Expenses |  |  |  |  |  |  |  |
4070 Allowance for Funds used during Construction |  |  |  |  |  |  |  |
4072 Social and Community Welfare Contribution |  |  |  |  |  |  |  |
4076 Total Non-operating Income & Expenses |  |  |  |  |  |  |  |
4080 Interest Paid—Capital Leases |  |  |  |  |  |  |  |
4090 Extraordinary Items |  |  |  |  |  |  |  |
4100 Income Effect Jurisdictional Rate-making Difference |  |  | N/A | N/A | N/A | N/A | N/A | N/A
4110 Total Certain Income Accounts |  |  |  |  |  |  |  |
4120 Total Operating Revenues (plus) Jurisdictional Diff. |  |  |  |  |  |  |  |
OPERATING EXPENSES
5000 Network Support Expenses |  |  |  |  |  |  |  |
5010 General Support Facilities Expenses |  |  |  |  |  |  |  |
5013 Total Network & General Support Expense |  |  |  |  |  |  |  |
5026 Total COE Expenses |  |  |  |  |  |  | N/A |
5060 Total IOT Expenses |  |  |  |  | N/A |  | N/A | N/A
5076 Total C&WF Expense |  |  |  |  |  |  | N/A |
5080 Total Plant Specific Expenses |  |  |  |  |  |  |  |
6000 Other Property Plant and Equipment Expenses |  |  |  |  |  |  | N/A |
6010 Network Operation Expenses |  |  |  |  |  |  | N/A |
6012 Access Expenses |  |  |  | N/A | N/A | N/A | N/A |
6020 Depreciation Expense—GSF |  |  |  |  |  |  |  |
6030 Depreciation Expense—Switching Equip |  |  |  |  |  |  | N/A |
6040 Depreciation Expense for Operator System Equipment |  |  |  |  |  |  | N/A |
6050 Depreciation Expense—Transmission |  |  |  |  |  |  | N/A |
6060 Depreciation Expense—IOT |  |  |  |  | N/A |  | N/A | N/A
6070 Depreciation Expense—C&WF |  |  |  |  |  |  | N/A |
6080 Depreciation Expense for Plant Held Future Use |  |  |  |  |  |  |  |
6090 Total Depreciation Expense—TPIS |  |  |  |  |  |  |  |
(vi) TABLE I—SEPARATIONS AND ACCESS TABLE
6100 Amortization Expense of Capital Lease—GSF |  |  |  |  |  |  |  |
6110 Amortization Expense of Capital Lease—Switching |  |  |  |  |  |  | N/A |
6160 Total Amortization Expense of Capital Lease |  |  |  |  |  |  |  |
6230 Total Amortization Expense of Leasehold Improvements |  |  |  |  |  |  |  |
6240 Total Amortization Expense of Tangible Assets |  |  |  |  |  |  |  |
6250 Other Depreciation/Amortization Exp. Intangible Assets |  |  |  |  |  |  |  |
6252 Other Depreciation/Amortization Expenses |  |  |  |  |  |  |  |
6254 Total Other Depreciation/Amortization Expenses |  |  |  |  |  |  |  |
6260 Total Depreciation and Amortization Expenses |  |  |  |  |  |  |  |
6270 Total Plant Non-Specific Expenses |  |  |  |  |  |  |  |
6998 Marketing Expenses |  |  |  | N/A | N/A | N/A | N/A | N/A
6999 Marketing Expense—Allocations |  |  |  | N/A | N/A | N/A | N/A | N/A
7000 Total Marketing Expenses |  |  |  |  |  |  | N/A |
7001 Current Billing Analysis |  |  |  | N/A | N/A | N/A | N/A | N/A
7002 Combined Investment for Part 69 | N/A | N/A |  |  |  |  | N/A |
7052 # Weighted Standard Working Seconds for Allocations | N/A | N/A |  | N/A |  | N/A | N/A
7060 Total Telephone Operator Service Expenses |  |  |  | N/A |  | N/A | N/A |
7070 Classified Directory Expenses |  |  | N/A | N/A | N/A | N/A | N/A | N/A
7073 Alphabetical Directory Expense |  |  |  | N/A | N/A | N/A | N/A | N/A
7074 # Subscriber Line Minutes-of-use for Allocation |  |  |  | N/A | N/A | N/A | N/A | N/A
7075 Foreign directory Expense |  |  |  | N/A | N/A | N/A | N/A | N/A
7076 Total Directory Expenses |  |  |  | N/A |  | N/A | N/A | N/A
7220 Total Category 1 Local Business Office Expenses |  |  |  |  |  |  |  |
7290 Total Category 2 Customer Service—Revenue Accounting |  |  |  |  |  |  |  | N/A
7300 Category 3 All Other Customer Service Expense |  |  |  |  |  |  |  |
7310 Total Other Customer Operation Expenses |  |  |  |  |  |  |  |
7320 Total Customer Operation Expenses |  |  |  |  |  |  |  |
7330 Corp. Oper. Exp.—Extended Area Services |  |  | N/A |  |  |  | N/A | N/A
7331 Corporate Operations Expense—All Other |  |  |  |  |  |  |  |
7334 Total Corporate Operations Expenses |  |  |  |  |  |  |  |
7350 FCC Expense Adjustment | N/A | N/A |  |  |  |  |  |
7351 Total Operating Expenses |  |  |  |  |  |  |  |
8000 Operating Taxes—State and Local |  |  |  |  |  |  |  |
8001 Approximated Net Taxable Income—Allocation |  |  |  |  |  |  |  |
8002 Operating Taxes—Other State and Local |  |  |  | N/A | N/A | N/A | N/A | N/A
8003 Operating Taxes—All Other State and Local |  |  |  | N/A | N/A | N/A | N/A | N/A
8005 Total All Other State/Local Taxes—Part 69 | N/A | N/A |  |  |  |  |  |
8007 Operating Taxes—Total State & Local |  |  |  |  |  |  |  |
(vii) TABLE I—SEPARATIONS AND ACCESS TABLE
8010 Oper. Taxes—FIT Fixed Charges—Sub. Tax. Inc. |  |  |  |  |  |  |  |
8011 Federal Income Taxes—Net Investment Used for Allocation |  |  |  | N/A | N/A | N/A | N/A | N/A
8012 Combined Investment Used for Allocation—Part 69 | N/A | N/A |  |  |  |  |  |
8013 Operating Taxes—FIT IRS Income Adjustment |  |  |  |  |  |  |  |
8014 FCC Taxable Income Adjustment | N/A | N/A |  |  |  |  |  |
8015 Investment Tax Credit Amortization |  |  |  |  |  |  |  |
8017 Combined Investment Used for Allocation—Part 69 | N/A | N/A |  |  |  |  |  |
8018 FCC Investment Tax Credit | N/A | N/A |  |  |  |  |  |
8020 Federal Income Taxes |  |  |  |  |  |  |  |
8021 Tax Income Used for Allocation |  |  |  |  |  |  |  |
8030 Total Operating Taxes |  |  |  |  |  |  |  |
Return Data:
8040 Return Data—Average Net Investment |  |  |  |  |  |  |  |
8041 Return Data—Net Return | N/A | N/A |  |  |  |  | N/A | N/A
8042 % Return Data—Rate of Return | N/A | N/A |  |  |  |  | N/A | N/A
Other Data:
9001 Common Line “ Long Term Support | N/A | N/A |  |  | N/A | N/A | N/A | N/A
9002 Universal Service Fund—High Loop Cost |  |  |  | N/A | N/A | N/A | N/A | N/A
9003 Unseparated USF Loop Cost | N/A | N/A | N/A | N/A | N/A | N/A | N/A
9004 # Number of Working USF Loops |  | N/A | N/A | N/A | N/A | N/A | N/A | N/A
9005 $ Unseparated USF Cost Per Loop |  | N/A | N/A | N/A | N/A | N/A | N/A | N/A
9006 Lifeline Connections Assistance—Allocation |  |  |  | N/A | N/A | N/A | N/A | N/A
9007 # Household Receiving Lifeline Connection Assistance |  | N/A | N/A | N/A | N/A | N/A | N/A | N/A
9008 $ Average Discount per Household |  | N/A | N/A | N/A | N/A | N/A | N/A | N/A
9009 $ Deferred Charges per Household |  | N/A | N/A | N/A | N/A | N/A | N/A | N/A
9010 # Total Billable Access Lines |  | N/A | N/A | N/A | N/A | N/A | N/A | N/A
Legend: All amounts are in thousands, unless otherwise indicated in the row title.
# The symbol “#” preceding the applicable row description would indicate items that are not dollars or percentages (e.g., minutes, miles, conversational minutes, working loops, etc.)
$ All data that must be entered in dollars rounded to the nearest penny (e.g., cost per loop) is indicated by a symbol “$” (dollar sign) preceding the applicable row description.

[FR Doc. 01-16422 Filed 6-28-01; 8:45 am]

BILLING CODE 6712-01-P